DEPARTMENT OF DEFENSE

Office of the Secretary

National Security Education Board of Advisors Meeting

AGENCY: National Defense University.

ACTION: Notice of meeting.

SUMMARY: Pursuant to Pub. L. 92-463, notice is hereby given of a forthcoming meeting of the National Security Education Board Group of Advisors. The purpose of the meeting is to review and make recommendations to the Board concerning requirements established by the David L. Boren National Security Education Act, Title VIII of Pub. L. 102-183, as amended.

DATES: September 23, 2003.

ADDRESSES: The Academy for Educational Development (AED), 1825 Connecticut Avenue, NW, 8th Floor, Washington, DC 20009.

FOR FURTHER INFORMATION CONTACT: Dr. Edmond J. Collier, Director for Programs, National Security Education Program, 1101 Wilson Boulevard, Suite 1210, Rosslyn P.O. Box 20010, Arlington, Virginia 22209-2248; (703) 696-1991. Electronic mail address: colliere@ndu.edu.

SUPPLEMENTARY INFORMATION: The National Security Education Board Group of Advisors meeting is open to the public.

Dated: August 27, 2003.
L.M. Bynum,
Alternate OSD Federal Register Liaison Officer, DoD.

[FR Doc. 03-22361 Filed 9-2-03; 8:45 am]

BILLING CODE 5001-08-M